DEPARTMENT OF HEALTH AND HUMAN SERVICES

Request for Information (RFI): Improving Health and Accelerating Personalized Health Care Through Health Information Technology and Genomic Information in Population- and Community-based Health Care Delivery Systems; Extension of Comment Period

AGENCY: Office of the Secretary, Department of Health and Human Services.

ACTION: Notice.

SUMMARY: On November 1, 2006, the U.S. Department of Health and Human Services (HHS) issued a notice in the Federal Register (FR Doc. Vol 71, No. 211, pages 64282-64284) to request input from the public and private sectors on plans for developing and using resources involving health information technology and genetic and molecular medicine, with specific reference to incorporating these capacities in evidence-based clinical practice, health outcomes evaluations, and research. A 60 day comment period was established upon publication of that notice.

The purpose of this notice is to inform all interested parties that the comment period originally identified in the November 1, 2006 Federal Register has been extended for thirty days, in order to maximize the opportunity for interested individuals and organizations to provide comments to HHS on this subject.

DATES: The closing period for the comment period will now be February 5, 2007.

ADDRESSES: Electronic responses are preferred and may be addressed to PHCRFI@hhs.gov. Written responses should be addressed to U.S. Department of Health and Human Services, Room 434E, 200 Independence Avenue SW., Washington, DC 20201, Attention: Personalized Health Care RFI.

FOR FURTHER INFORMATION CONTACT: Dr. Gregory Downing, Personalized Health Care Initiative, (202) 260-1911.

SUPPLEMENTARY INFORMATION: A copy of this RFI is available on the HHS Web site at http://www.aspe.hhs.gov/PHC/rfi. Please follow the instructions for submitting responses.

Dated: December 6, 2006.
John O. Agwunobi,
Assistant Secretary for Health, Office of Public Health and Science.

[FR Doc. E6-21146 Filed 12-12-06; 8:45 am]

BILLING CODE 4150-28-P